DEPARTMENT OF ENERGY

Federal Energy Regulatory Commission

[Docket No. EG06-46-000]

Rumford Falls Hydro LLC; Notice of Effectiveness of Exempt Wholesale Generator or Foreign Utility Company Status

September 13, 2006.

Take notice that during the month of August 2006, the status of the above-captioned entity as an Exempt Wholesale Generator became effective by operation of the Commission's regulations. 18 CFR 366.7(a).

Magalie R. Salas,
Secretary.

[FR Doc. E6-15519 Filed 9-18-06; 8:45 am]

BILLING CODE 6717-01-P